ENVIRONMENTAL PROTECTION AGENCY

[FRL-9915-22-OA]

National Environmental Education Advisory Council Meetings

AGENCY: Environmental Protection Agency.

ACTION: Notice of cancellation and reschedule of teleconference meeting.

SUMMARY: The Environmental Protection Agency (EPA or Agency) Office of External Affairs and Environmental Education (OEAEE) is issuing this notice to cancel the August 8, 2014 NEEAC Teleconference and reschedule it for August 21, 2014 from 3:00 p.m.-4:00 p.m. Eastern Time. Notice of the August 8, 2014 meeting was previously published on July 1, 2014: FR Doc 2014-15397 Filed 6-30-2014. The purpose of these teleconference(s), is to discuss specific topics of relevance for consideration by the council in order to provide advice and insights to the Agency on environmental education.

DATES: The National Environmental Education Advisory Council will hold a public meeting (teleconference) on Thursday August 21, 2014 from 3:00 p.m.-4:00 p.m. (Eastern Time).

FOR FURTHER INFORMATION CONTACT: For information regarding this cancellation and rescheduling of the meeting, please contact Mr. Javier Araujo, Designated Federal Officer (DFO), EPA National Environmental Education Advisory Council, at (202) 564-2642 or email at: Araujo.javier@epa.gov.

Dated: August 6, 2014.
Javier Araujo,
Designated Federal Officer.

[FR Doc. 2014-19273 Filed 8-13-14; 8:45 am]

BILLING CODE 6560-50-P